DEPARTMENT OF THE INTERIOR

National Park Service

National Register of Historic Places; Notification of Pending Nominations

Nominations for the following properties being considered for listing in the National Register were received by the National Park Service before May 10, 2003.

Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by June 23, 2003.

Carol D. Shull,
Keeper of the National Register of Historic Places.

ALASKA

Juneau Borough—Census Area

Point Retreat Light Station, (Light Stations of the United States MPS), on Mansfield Peninsula at N. end of Admiralty Island near Jct. of Lynn Canal and Stephens Passage, Juneau, 03000529.

ARIZONA

Maricopa County

Robson Historic District, Roughly bounded by Country Club Dr., Robson and 2nd Sts., Mesa, 03000530.

West Second Street Historic District (Boundary Revision), Roughly bounded by Robson St., University Dr. and MacDonald St., Mesa, 03000531.

ARKANSAS

Garland County

Pleasant Street Historic District, Roughly bounded by Malvern Av., Pleasant, Church, Gulpha, Garden, Grove and Kirk Sts., Hot Springs, 03000532.

CALIFORNIA

Riverside County

Galleano Winery, 4231 Wineville Rd., Mira Loma, 03000533.

GEORGIA

Coweta County

Powell Chapel School, 620 Old Atlanta Hwy., Newnan, 03000535.

Fulton County

Berkeley Park Historic District, Roughly bounded by Bellemeade Rd., Northside Dr., Atlanta Waterworks and Howell Mill Rd., Atlanta, 03000536.

Habersham County

Pyle—Davis House, 202 Massachusetts Bvd., Demorest, 03000537.

ILLINOIS

Cook County

Produce Terminal Cold Storage Company Building, 1550 South Blue Island Av., Chicago, 03000538.

INDIANA

Carroll County

Carrollton Bridge, Carrollton Rd. across Wabash R., Delphi, 03000539.

Cinton County

Christian Ridge Historic District, roughly bounded by Prairie Cr., Young & E. Washington Sts., & Harvard Terr., Frankfort, 03000540.

Jackson County

Southern Indiana Railroad Freighthouse, 105 N. Broadway, Seymour, 03000541.

Marion County

Nicholson—Rand House, 5010 W. Southport Rd., Indianapolis, 03000542.

Montgomery County

Crawfordsville High School, (Indiana's Public Common and High Schools MPS) 201 E. Jefferson St., Crawfordsville, 03000543.

Newton County

Scott—Lucas House, 514 S. Main St., Morocco, 03000544.

Posey County

Mount Vernon Downtown Historic District, Roughly bounded by Ohio R., 6th & Walnut Sts. & College Av., Mount Vernon, 03000545.

Pulaski County

Pulaski County Bridge No.31, CR 1175 W, Medaryville, 03000546.

Scott County

Scottsburg Courthouse Square Historic District, Roughly bounded by 1st., Kerton, Railroad & Wardell Sts., Scottsburg, 03000547

Tippecanoe County

Big Four Depot, 200 N. 2nd St. Lafayette, 03000548.

MASSACHUSETTS

Worcester County

Central Street Historic District, Roughly bounded by Central, Quaker, West, Chesley, Bow, Prospect & Fletcher Sts., Millville, 03000550.

East Main—Cherry Street Historic District (Boundary Increase), Park Street, Spencer, 03000551.

Mendon Center Historic District, Roughly bounded by Main, Hastings, Maple, North, Washington & George Sts., Mendon, 03000552.

MISSISSIPPI

Amite County

Bethany Presbyterian Church, Jct. MS 48 & Perry Rd., Centreville, 03000553.

De Soto County

Robertson—Yates House, 5000 Robertson Gin Rd., Hernando, 03000554.

N. MARIANA ISLANDS

Saipan Municipality

Hachiman Jinja, Lot nos. H 300-11 & H 300-4, Kannat Taddong Papago, 03000549.

OHIO

Lucas County

Toledo Traction Company Power Station, 300 Water St., Toledo, 03000555.

SOUTH DAKOTA

Moody County

Egan Park, (Federal Relief Construction in South Dakota MPS) 2nd St., Egan, 03000556.

TEXAS

El Paso County

House at 912 Magoffin Avenue, 912 Magoffin Ave, El Paso, 03000557.

Johnson County

Joiner—Long House, 604 Prairie Av., Cleburne, 03000558.

Smith County

Azalea Residential Historic District, (Tyler, Texas MPS) Roughly bounded by S. Robinson Av., Sunnybrook Dr., Fair Ln., Old Bullard Rd., College Av., W. 4th St., Highland Av., Tyler, 03000559.

Travis County

Deep Eddy Bathing Beach, 301 Quarry St., Austin, 03000560.

VIRGINIA

Arlington County

Ashton Heights Historic District, Roughly bounded by Wilson Bvd., N. Irving St., Arlington Bvd., N. Oxford St., N. Piedmont & N. Oakland Sts., Arlington, 03000561.

Chesapeake Independent City

Centreville—Fentress Historic District, roughly bounded by Fentress Rd., Centerville Tnpk., Blue Ridge Rd., Whittamore Rd., Chesapeake, 03000562.

Oaklette Historic District, roughly bounded by Indian River Rd., Oaklette, Webster, St. Lawrence, & Seneca Sts., Chesapeake, 03000563.

Sunray Agricultural Historic District, Roughly bounded by Great Dismal Swamp & I 64, Chesapeake, 03000564.

Floyd County

Phlegar Farm, Off VA 615, Floyd, 03000565.

Frederick County

Middletown Historic District, bounded by Main St., Church St., Senseney Av., 1st, 4th, 6th & 3rd Sts., Middletown, 03000566.

Nelson County

Lovingston High School, 8445 Thomas Nelson Hwy., Lovingston, 03000567.

Newport News Independent City

Lee's Mill Earthworks, 280 Rivers Ridge Cir., Newport News, 03000568.

Northampton County

Cape Charles Light Station, (Light Stations of the United States MPS) Smith Island, Kiptopke, 03000569.

Prince George County

Prince Georges County Courthouse Historic District, 6400 Courthouse Rd., Prince George, 03000570.

Suffolk Independent City

Bay Point Farm, 1400 Sleepy Hole Rd., Suffolk, 03000571.

York County

Sessions—Pope—Sheild House, 600 Main St., Yorktown, 03000572.

To assist with the preservation of this resource, the comment period has been reduced to three (3) days:

DISTRICT OF COLUMBIA

District of Columbia

Olympia Apartments (Apartment Buildings in Washington, DC, MPS) 1368 Euclid St., NW., Washington, 03000534.

[FR Doc. 03-14318 Filed 6-5-03; 8:45 am]

BILLING CODE 4312-51-P